DEPARTMENT OF HEALTH AND HUMAN SERVICES

Health Resources and Services Administration

HHS Approval of Professional Organizations and States' Standards for Certification

AGENCY: Health Resources and Services Administration, HHS.

ACTION: Solicitation of comments.

SUMMARY: The Health Resources and Services Administration's (HRSA) Healthcare Systems Bureau, Division of Healthcare Preparedness Poison Control Program, provides supplemental funding to Poison Control Centers (PCCs) across the United States, promotes universal access to PCC services, and encourages the enhancement and improvement of poison education, prevention, and treatment. To receive funding from HRSA, PCCs must meet certain certification requirements. The purpose of this solicitation of comments is to assist HRSA in establishing criteria/guidelines to approve professional organizations and State governments' certification standards for PCCs.

DATES: To be considered, written comments should be postmarked no later than June 7, 2005.

ADDRESSES: Please send all comments to HRSA's Division of Healthcare Preparedness, Healthcare Systems Bureau, Attention: Maxine Jones, Room 13-103, Parklawn Building, 5600 Fishers Lane, Rockville, MD 20857.

FOR FURTHER INFORMATION CONTACT: Maxine Jones, HRSA, HSB, Division of Healthcare Preparedness, (301) 443-6192, fax (301) 443-4922, or e-mail mjones@hrsa.gov.

SUPPLEMENTARY INFORMATION:

Background

In February 2000, Congress enacted the Poison Control Center Enhancement and Awareness Act, Pub. L. No. 106-174. This Act authorized funding to establish a national toll-free number to access Poison Control Center (PCC) services, a nationwide poison prevention media campaign, and a grant program to achieve financial stability of PCCs. In addition, the Act directed the Secretary of HHS to: (1) Develop standard education programs; (2) develop standard patient management protocols for commonly encountered exposures; (3) improve and expand the poison control data collection systems; (4) improve national toxic exposure surveillance, and (5) expand the physician/medical toxicologist supervision of PCCs. This Act was amended by Public Law 108-194, the Poison Control Enhancement and Awareness Act Amendments of 2003, which directs the Secretary of HHS to improve the capacity of poison control centers to answer high volumes of calls during times of national crisis, in addition to the activities listed in the original Act.

The grant program that was established provides funding for financial stabilization, certification, and incentive grants. Financial stabilization grants assist with financial stabilization and the improvement of services in PCCs that already meet American Association of Poison Control Centers (AAPCC) certification standards. Certification grants assist uncertified centers in efforts to attain certification status in addition to promoting enhancement of services. Incentive grants are awarded to PCCs that are working collaboratively and innovatively to improve poison control systems and services.

In general, PCCs must meet the certification requirements listed in Public Law 108-194 sec. 1273(c) to receive funding from HRSA. One way PCCs can fulfill this requirement is if the PCC “has been certified by a professional organization in the field of poison control, and the Secretary has approved the organization as having in effect standards for certification that reasonably provide for the protection of the public health with respect to poisoning.” The second way PCCs can fulfill this requirement is if the PCC “has been certified by a State government, and the Secretary has approved the State government as having in effect standards for certification that reasonably provide for the protection of the public health with respect to poisoning.” (Pub. L. No. 108-194 sec. 1273(c)).

Solicitation of Comments

The HRSA is seeking public input regarding guidelines by which the Secretary shall approve professional organizations and State governments as having in effect standards for PCC certification. Respondents are asked to submit recommended guidelines for approving professional organizations and State governments' standards for certification, per Public Law 108-194 sec. 1273(c).

Written comments should be limited to no more than 10 double-spaced pages or 5 single-spaced pages and should contain the name, address, telephone, and fax numbers, and any organizational affiliation of the persons providing written comments. Respondents may be contacted by the Poison Control Program, HRSA, to answer questions regarding their submitted comments. We are particularly interested in comments which address but are not limited to the following issues:

1. Modeling the guidelines after certification requirements that are currently being used to certify PCCs;

2. Elements of approval that the guidelines should include and justification of the elements;

3. Guidelines applying to all State governments;

4. Guidelines applying to all professional organizations; and

5. Inclusion of re-certification as an element of certification.

Dated: March 31, 2005.
Elizabeth M. Duke,
Administrator.

[FR Doc. 05-7017 Filed 4-7-05; 8:45 am]

BILLING CODE 4165-15-P